DEPARTMENT OF EDUCATION

Tech-Prep Demonstration Program

AGENCY: Office of Vocational and Adult Education, Department of Education.

ACTION: Notice of final requirements, final priorities and final selection criteria for new awards in Fiscal Year (FY) 2003 and subsequent years.

SUMMARY: The Assistant Secretary for Vocational and Adult Education announces requirements, priorities, and selection criteria under the Tech-Prep Demonstration Program (TPDP). The Assistant Secretary will use these requirements, priorities, and selection criteria for new awards made in FY 2003, and may use them in later years. We intend these requirements, priorities, and selection criteria to support the four basic education reform principles underlying the No Child Left Behind Act of 2001 (NCLB): Stronger accountability for results, increased flexibility and local control, expanded options for parents, and an emphasis on teaching methods that have been proven to work. We take this action to clarify the Department's expectations regarding this program, so that TPDP-funded projects will help students, schools, and teachers in their efforts to improve student achievement, meet high standards for high school graduation, and increase transition and persistence rates in postsecondary education.

EFFECTIVE DATE: These requirements, priorities and selection criteria are effective June 11, 2003.

FOR FURTHER INFORMATION CONTACT: Karen Stratman Clark, U.S. Department of Education, OVAE, MES Room 5223, 400 Maryland Avenue, SW., Washington DC 20202-7100. Telephone: (202) 205-3779 or via Internet: karen.clark@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: This final notice establishes program requirements, priorities, and selection criteria for the TPDP, which is authorized by section 207 of the Carl D. Perkins Vocational and Technical Education Act of 1998 (Perkins III). TPDP provides grants to consortia to carry out tech-prep education projects that involve the location of a secondary school on the site of a community college, a business as a member of the consortium, and the voluntary participation of secondary school students. We intend to fund projects that, following an initial recruitment period, will enroll a new student cohort in each year of the project, in addition to continuing support for each previous TPDP student cohort.

We published a notice of proposed requirements, proposed priorities and proposed selection criteria in the Federal Register on Friday, January 24, 2003 (68 FR 3517). In that notice, we discussed (on pages 3517 though 3519) the proposed requirements, priorities, and selection criteria for this year's TPDP competition and subsequent competitions.

Analysis of Comments and Changes

In response to our invitation in the notice of proposed requirements, proposed priorities, and proposed selection criteria, six parties submitted comments. An analysis of the comments, and of any changes made as a result of comments submitted, follows.

We have grouped major issues by subject. Generally, we do not address technical or other minor, non-substantive changes, or suggested changes, which the applicable statutory authority does not authorize us to make. Specifically, we have made technical changes to Priority 3 to clarify when we will award points for this priority.

Project Period

Comment: Three commenters were concerned with the proposal to extend the TPDP project period from three to five years. They expressed concern that this extension of the project period, coupled with the plan to fund the entire grant award from FY 2002 funds, would reduce the amount of funds available per year and reduce the number of grants to be funded.

Discussion: The decision to extend the project period from three to five years is based on a number of factors. By statutory definition, under section 202(a)(3) of Perkins III, tech-prep programs combine at least two years of secondary education with a minimum of two years of postsecondary education in a nonduplicative, sequential course of study. Federal funding of three-year projects under the first TPDP competition was not intended to support entire four-year tech-prep projects. With an expanded five-year project period, grantees will have both a lengthy tech-prep recruitment phase, and sufficient time for the first cohort of students to complete the entire four-year tech-prep program. Furthermore, five-year funding will allow the grantees funded under this year's competition and the Department to fully evaluate the effectiveness of the funded projects. The Department believes the estimated average size of awards accurately reflects what are likely to be relatively low costs of the first year's recruitment efforts, as well as costs associated with the four-year instructional program. While the expanded project period may serve to reduce the number of grants to be awarded, the Department believes that funding fewer projects to implement complete tech-prep programs serving significant numbers of students is preferable to funding a greater number of projects that would implement only partial tech-prep programs. However, regarding the estimated amount of funds available per year, the Department has also decided to use both the FY 2002 and the FY 2003 TPDP appropriations for this year's competition, which will serve to almost double the estimated amount of TPDP funds available for grant awards. See the “Estimated Available Funds” section in the notice inviting applications published elsewhere in this issue of the Federal Register.

Changes: None.

Assurance Regarding Start of Classes

Comment: Three commenters were concerned with the proposed grant schedule. If TPDP grants were to be awarded in August of 2003, the commenters were concerned that grantees would have insufficient time to launch their projects by September of 2003.

Discussion: Requirement 3 states that successful applicants must enroll the first student cohort and must begin classes “no later than September of the calendar year after the year in which the grant award is made.” For this year's competition, this would mean September of 2004. This proposed time frame will allow funded projects a full year's time to recruit their first cohort of students and begin classes by September of 2004. Indeed, as is discussed in response to an earlier comment, providing sufficient recruitment time was one of the reasons we proposed to expand the project period.

Changes: None.

Full-Time Enrollment Requirement

Comment: Three commenters were concerned about the requirement that eligible applicants enroll students full time in the program. They argued that this “guideline” would eliminate applicants with part-time programs from the applicant pool as well as significantly expand the scope of the currently funded TPDP projects.

Discussion: The requirement for full-time enrollment is based on the statutory language in section 207 of Perkins III, which specifically requires that funds be used to “enable eligible consortia to carry out tech-prep education projects that involve the location of a secondary school on the site of a community college.” For purposes of the TPDP program, the Department does not consider part-time programs to be “secondary schools” and has concluded that the full-time enrollment requirement is necessary in order to fund programs under this competition that meet fully the intent of section 207. This will not, however, alter the scope of currently funded TPDP projects. Rather, it applies only to new projects funded under this year's competition and perhaps in future competitions.

Changes: None.

Evaluation Requirement

Comment: One commenter recommended enhancing the program evaluation and outcomes assessment.

Discussion: The Department believes that the TPDP evaluation requirement, which is now more rigorous than that in the first TPDP competition, is sufficient for the program. The evaluation requirement now provides that a funded TPDP project must use an experimental or quasi-experimental design in the evaluation of the project. It further stipulates that funded TPDP projects also must carry out an evaluation to determine the impact of the project on a comprehensive set of student outcomes, including academic and technical skills achievement, high school graduation, enrollment and completion of postsecondary education, postsecondary remedial coursework, and labor market entry.

Change: None.

Comment: Three commenters were concerned about the proposed data reporting requirements regarding postsecondary persistence and completion, and labor market entry. They felt that greater resources should be allocated to support this data collection effort.

Discussion: The Department recognizes that by undertaking this data collection and reporting effort, some projects may incur additional costs. Consequently, the projected range of awards has been increased from the last competition.

Changes: None.

Proposed Priority 1—Highly Qualified Teachers

Comment: Three commenters were concerned that, as proposed, Priority 1 would require community colleges seeking TPDP funds to meet the teacher quality standards of the Elementary and Secondary Education Act (ESEA), as amended by the NCLB, Federal legislation that does not govern postsecondary institutions. They believed the use of this proposed priority would extend NCLB into an inappropriate arena.

Discussion: By its nature, the TPDP is a collaborative effort between secondary and postsecondary education. For this reason, it is appropriate to include priorities that reflect the focus of NCLB with respect to a component of a TPDP project taught by a secondary teacher. Our examination of currently funded TPDP projects revealed two different models for providing core academic classes—one in which secondary teachers taught core academic classes on the campus of the community college and another in which postsecondary instructors taught core academic classes for dual high school and community college credit. However, as it was not the Department's intent to expand the applicability of NCLB's provisions beyond elementary and secondary education and into the arena of community college hiring, the proposed priority has been revised.

Change: Under Priority 1 as revised, we will give competitive preference by awarding up to five additional points to applications that: (a) Require all secondary teachers teaching core academic subjects to be highly qualified, as such term is defined by section 9101(23) of the ESEA, as amended by NCLB; and (b) require all postsecondary teachers teaching core academic subjects to meet State standards for community college faculty.

Eligibility Requirements

Comment: One commenter urged the Department to allow technical centers to apply for TPDP funding. This individual believed that technical centers have both the resources and the expertise to house a successful tech-prep high school.

Discussion: Section 207 provides that funds are to be used to “enable eligible consortia to carry out tech-prep education projects that involve the location of a secondary school on the site of a community college.” In light of this statutory requirement, a technical center that serves students on a full-time basis may be a TPDP site only if it is located on the campus of a community college.

Change: None.

Comment: One commenter recommended that community colleges play a greater role in tech-prep programs.

Discussion: The TPDP already places community colleges in a pivotal role in the development and implementation of tech-prep programs, given that the statute requires eligible consortia to implement tech-prep education projects that involve the location of a secondary school on the site of a community college.

Change: None.

Comment: One commenter recommended that community-based organizations (CBOs) be encouraged to play a greater role in tech-prep programs.

Discussion: While section 207 does not identify CBOs as required members of eligible consortia, it does not preclude their participation. Thus, CBOs are eligible for consortium membership, or may serve some other function in a TPDP project, should an applicant choose to include them.

Change: None.

Comment: One commenter thought that four-year colleges and universities should be involved in tech-prep curriculum reform efforts.

Discussion: Under the provisions of section 207(d), tech-prep articulation agreements with four-year institutions cannot be supported with TPDP funds. However, section 207 does not preclude the participation of four-year colleges and universities in a TPDP project. They are eligible for consortium membership if an applicant chooses to include them, and they can participate in curriculum reform efforts within the context of the TPDP project.

Change: A change has been made. For information purposes, “Allowable Costs” and “Unallowable Costs” sections have been added to this notice immediately following the “Requirements” section. These sections indicate, among other things, that articulation agreements with four-year institutions cannot be funded under the TPDP and discuss the allowability of several other types of costs about which we frequently receive questions.

Comment: One commenter recommended that one of the required partners in the grant application be a tech-prep consortium.

Discussion: The requirements for membership in a TPDP consortium are taken from the statutory language in section 204(a) and section 207(b) of Perkins III. A tech-prep consortium under section 204, which receives funds under the State Tech-Prep Education Program, would not necessarily be eligible for funding under the TPDP because section 204 does not require inclusion of a business member. In contrast, section 207 specifically states that TPDP funds may only be awarded to a consortium that includes a business member.

Change: None.

Academic Preparation for Postsecondary Education

Comments: One commenter stated that tech-prep programs should be academically rigorous in order to support the transition from high school to college for more students, and that tech-prep programs should avoid tracking and serve a diverse student population. The commenter also recommended that recruitment and retention strategies be geared toward minority students.

Discussion: All students participating in TPDP projects should be expected to meet or exceed State academic standards and to enroll in postsecondary education. This expectation is reflected in the “Project Design” and “Project Evaluation” selection criteria. As to the commenter's recommendations that TPDP recruitment and retention strategies be geared toward minority students, the TPDP has several provisions related to special populations aimed at assisting students to overcome barriers that might interfere with recruitment or retention, or otherwise prevent them from succeeding in a TPDP project. While minority students are not necessarily special population students, minority students would be included in the definition of “special populations” to the extent that they are economically disadvantaged or single parents, face other barriers to educational achievement, including limited English proficiency, or otherwise meet the definition of “special populations” in section 3(23) of Perkins III. There are already several criteria factors in this notice that are intended to address the needs of all special population students. In addition, section 207(d)(3) of Perkins III requires the Secretary to give “special consideration” to consortia submitting applications that meet the requirements of paragraphs (1), (3), (4), and (5) of section 205(d). Specifically, section 205(d)(3) addresses dropout prevention and the needs of special populations. Also, section 205(d)(5) addresses how tech-prep programs will help students meet high academic and employability competencies. In order to more fully implement the statutory requirement that special consideration be provided to certain applications—including applications addressing dropout prevention and special populations—and in response to this comment, in addition to the points to be awarded to applicants based on the selection criteria and Priorities 1-3, the Department will award five additional points to applications that address, among other things, dropout prevention and the needs of special population students. Also, in response to the commenter's additional concerns, we note that in section 204(c)(5) of Perkins III, recruitment and counseling activities are stated to be key tech-prep components that must be geared to meeting the needs of participating students.

Changes: A change has been made. A “Special Considerations” section has been added to this notice, immediately before the “Selection Criteria” section, wherein we state that, in addition to the points to be awarded to applicants based on the selection criteria and Priorities 1-3, the Department will award five additional points to applications that: (1) Provide for effective employment placement activities; (2) Effectively address the issues of school dropout prevention and reentry, as well as the needs of special populations; (3) Provide education and training in career areas or skills in which there are significant workforce shortages, including the information technology industry; and (4) Demonstrate how tech-prep programs will help students meet high academic and employability competencies.

Uses of Funds

Comment: One commenter requested funds to survey workplace literacy, English as a Second Language (ESL), General Educational Development (GED), and basic education programs in Milwaukee, Wisconsin.

Discussion: Since the programs identified appear to be adult literacy programs rather than tech-prep education programs, the proposed activity would not be allowable under TPDP.

Change: None.

Project Period

We have concluded that funding multi-year projects for a project period of five years entirely from the FY 2002 and FY 2003 appropriations is necessary for TPDP grantees to meet fully the statutory purposes of section 207 and the requirements of this notice. Such a funding arrangement will enable projects to engage in an adequate recruitment effort to meet their enrollment goals, and to implement both the full, two-year secondary component and the full, two-year postsecondary component of the TPDP project for the first student cohort during the grant award period.

Requirements

To achieve the purposes of section 207 of Perkins III, we establish the following requirements. These requirements will apply to all applicants seeking funding under this competition.

(1) Each applicant must submit a signed Consortium Agreement (Agreement), providing evidence that each of the categories of membership required under section 207 has been satisfied, and that each of the required members is eligible for membership under the provisions of Perkins III. The Agreement must contain a signature of commitment from any participating secondary school, community college, and business member, affirming that those entities have formed a consortium to develop, implement, and sustain a TPDP project as described under section 207 of Perkins III. The Agreement also must describe the roles and responsibilities of each consortium member within the proposed project. The format for the Agreement will be included in the application package.

(2) Each applicant must submit enrollment goals for the number of students in each student cohort to be enrolled in each year of the TPDP project.

(3) Each applicant must provide an assurance that it will enroll its first student cohort and begin classes no later than September of the calendar year after the year in which the grant award is made, and enroll its second, third, and fourth student cohorts by September of each subsequent year of the proposed project.

(4) Each applicant must submit a complete Proposed Project Course Sequence Plan (Plan) to demonstrate how the proposed instructional program represents a sequential, four-year program of study that meets the specific criteria set forth in sections 202(a)(3) and 204(c) of Perkins III. The Plan must list the course sequences for each program of study within the proposed TPDP project, describing the specific academic and technical coursework required for all four years of the program. The Plan also must summarize program entrance requirements and specify the associate degree or postsecondary certificate to be earned upon completion of the program. The format for the Plan will be included in the application package.

(5) Each TPDP-funded project must involve a secondary school physically located on the site of a community college and provide a complete program of academic and technical coursework at the community college that, at a minimum, meets State requirements for high school graduation. Students must be enrolled full-time in the high school on the community college campus. However, enrolled students may participate in extracurricular activities at their original high school. Proposed projects that involve only the “virtual” location of a secondary school on the site of a community college, and projects that involve only satellite community college sites located on the premises of secondary schools, are not eligible for support under this competition.

(6) Each TPDP-funded project must carry out an evaluation to determine the impact of the project on a comprehensive set of student outcomes, including: Academic and technical skills achievement; high school graduation; enrollment and completion of postsecondary education; postsecondary remedial coursework; labor market entry; and, to the extent feasible, earnings or earnings increase after program completion. In conducting this evaluation, each TPDP project must use either an experimental design, in which students are randomly assigned to the demonstration program or another program, or a quasi-experimental design, in which each program participant is matched with a non-participant possessing similar pre-program characteristics, such as test scores on State academic assessments, grade point average, class rank, technical coursework or course of study, and socioeconomic status.

(7) Each TPDP project must submit annual reports of anticipated enrollment. The reports of anticipated enrollment must include the number of students in each cohort enrolled for the coming year and, if that differs from the enrollment goals stated in the approved application, the reasons. The reports of anticipated enrollment will be due at the end of April of each project year.

(8) Each TPDP project must submit annual project performance reports and a final project performance report. Both the annual and final performance reports must summarize the TPDP project's progress and significant accomplishments, with respect to both the process of implementation and the outcomes of student participation; provide data regarding enrollment, persistence, and program completion for each student cohort; identify barriers to continued progress and outline solutions; include a progress report on and an analysis of the findings of the project evaluation; and review prospects for sustained operations after the cessation of Federal support. The annual and final performance reports will be due within 90 days of the end of each project year and of the end of the project, respectively.

Funded projects will be required to comply with all requirements adopted in this notice. Failure to comply with any applicable program requirement may subject a grantee to special conditions, withholding, or termination.

Allowable Costs

Allowable activities and expenditures for TPDP projects include, but are not limited to: Recruitment and enrollment of students; staff hiring; updating of articulation agreements; curriculum revision; professional development for secondary and postsecondary faculty, counselors, and administrators; and development and maintenance of business and industry partnerships. In addition, section 207(b)(2) specifies that TPDP projects may provide summer internships at a business for students or teachers.

Section 207 gives applicants latitude for innovation. For example, although tech-prep education by definition includes at least two years of education at the secondary level preceding high school graduation and two years of postsecondary education or apprenticeship training, section 204(c)(3)(B) authorizes tech-prep programs that allow students to concurrently complete both secondary and postsecondary courses, and simultaneously satisfy requirements for a high school diploma and an associate degree or other postsecondary credential.

Unallowable Costs

(1) Supplanting. In accordance with section 311(a) of Perkins III, funds under this program may not be used to supplant non-Federal funds used to carry out vocational and technical education activities and tech-prep activities. Further, the prohibition against supplanting also means that grantees are required to use their negotiated restricted indirect cost rate under this program. (34 CFR 75.563.)

Because of the statutory prohibition against supplanting, we caution applicants not to plan to use Federal funds awarded under section 207 to replace non-Federal funding that is already, or that otherwise would be, available for support of the TPDP projects to be assisted. Further, we are concerned that TPDP funds may be used to replace Federal student financial aid. We wish to highlight the fact that the statute does not authorize us to fund projects that serve primarily as entities through which students may apply for and receive tuition and other financial assistance.

(2) Construction. Under EDGAR (34 CFR 75.533), TPDP grants cannot be used for the acquisition of real property or construction.

(3) Articulation Agreements with Four-Year Institutions. Under the provisions of section 207(d), tech-prep articulation agreements with four-year institutions cannot be supported with funds awarded under section 207. However, articulation agreements with four-year institutions can be developed using other resources by applicants who wish to establish “open-ended” tech-prep career pathways. Also, the inclusion of institutions of higher education that award baccalaureate degrees in TPDP consortia is allowable under section 204(a)(2)(A).

Special Considerations

In addition to the points to be awarded to applicants based on the selection criteria and Priorities 1-3, under section 207(d)(3) of Perkins III, we award five additional points to applications that:

(1) Provide for effective employment placement activities;

(2) Effectively address the issues of school dropout prevention and reentry, as well as the needs of special populations;

(3) Provide education and training in career areas or skills in which there are significant workforce shortages, including the information technology industry; and

(4) Demonstrate how tech-prep programs will help students meet high academic and employability competencies.

Note: This notice does not solicit applications. In any year in which we choose to use one or more of these proposed priorities, we invite applications through a notice in the Federal Register. (A notice inviting applications under this program is published elsewhere in this issue of the Federal Register.) When inviting applications, we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1

Under this priority, we will give competitive preference by awarding up to five additional points to applications that: (a) Require all secondary teachers teaching core academic subjects to be highly qualified, as such term is defined by section 9101(23) of the ESEA, as amended by NCLB; and (b) require all postsecondary teachers teaching core academic subjects to meet State standards for community college faculty.

Note: ESEA defines the term “core academic subjects” as English, reading or language arts, mathematics, science, foreign languages, civics and government, economics, arts, history, and geography.

Priority 2

Under this priority, we will give competitive preference by awarding up to five additional points to applications that require each participating student, as a condition of high school graduation, to pass at least one high school-level test (either a comprehensive test covering a variety of courses in a subject area or a high school end-of-course test) in each of English or language arts, mathematics, and science. To receive any points under this priority, applicants must describe their specific high school graduation requirements.

Priority 3

Under this priority, we will give competitive preference by awarding up to five additional points to applications that offer the proposed TPDP project as an additional alternative for students attending high schools that have not met adequate yearly progress (AYP) for two or more consecutive years, as defined by section 1111 of the ESEA, as amended by NCLB, and 34 CFR 200.13. To receive any points under this priority, applicants must: (a) Provide evidence that at least one high school served by a consortium member (under 204(a)(1)(A) of Perkins III) has not met AYP for at least two consecutive years; and (b) provide an assurance that eligible students that are transferring from this high school will be given a genuine opportunity to enroll in the TPDP project.

Note: Each State published a list of “school improvement” schools for the 2001-02 school year last summer or early fall. Based on the transition language in the ESEA, these schools are also in school improvement for the 2002-03 school year. Applications from consortia that have a member (under 204(a)(1)(A) of Perkins III) serving at least one school on the list for the 2002-03 school year, will be eligible for a competitive preference under Priority 3.

Selection Criteria

We establish the following selection criteria to evaluate applications for new grants under this year's competition and perhaps subsequent competitions. The maximum score for all of the following criteria is 100 points. The maximum score for each criterion and sub-criterion is indicated in parentheses.

(a) Quality of the project design. (40 points)

In determining the quality of the design of the proposed project, we consider the following factors:

(1) The extent to which the applicant demonstrates its readiness to implement a complete, career-oriented, four-year program of study, as evidenced by a formal articulation agreement concerning the structure, content and sequence of all academic and technical courses to be offered in the proposed tech-prep program and, if applicable, the conditions under which dual credit will be awarded. (8 points)

(2) The extent to which the proposed instructional program will meet high academic standards that equal or exceed those established by the State. (4 points)

(3) The extent to which the applicant has aligned its secondary academic and technical course offerings and requirements for program completion with the entrance requirements for the corresponding postsecondary degree or certificate program. (4 points)

(4) The extent to which the applicant presents a detailed student recruitment plan that is likely to be effective in fulfilling the project's enrollment goals for each year of the project. (8 points)

(5) The extent to which the proposed project will provide comprehensive academic and career counseling and other support services to participating students at both the secondary and postsecondary levels, to ensure their persistence in the program and attainment of a postsecondary degree or certificate. (8 points)

(6) The extent to which the proposed project will provide high-quality, sustained, and intensive professional development for instructors, counselors, and administrators involved in the program. (8 points)

(b) Quality of the management plan. (15 points)

In determining the quality of the management plan for the proposed project, we consider the following factors:

(1) The extent to which the management plan outlines specific, measurable goals, objectives, and outcomes to be achieved by the proposed project. (5 points)

(2) The extent to which the management plan assigns responsibility for the accomplishment of project tasks to specific project personnel, and provides timelines for the accomplishment of project tasks. (5 points)

(3) The extent to which the time commitments of the project director and other key personnel are appropriate and adequate to achieve the objectives of the proposed project. (5 points)

(c) Quality of project personnel. (15 points)

In determining the quality of project personnel, we consider the following factors:

(1) The extent to which the applicant encourages applications for employment from members of groups that have traditionally been underrepresented based on race, color, national origin, gender, age, or disability. (5 points)

(2) The qualifications, including relevant training and experience, of the project director. (5 points)

(3) The qualifications, including relevant training and experience, of key project personnel, including teachers, counselors, administrators, and project consultants. (5 points)

(d) Adequacy of resources. (10 points)

In determining the adequacy of resources for the proposed project, we consider the following factors:

(1) The adequacy of support, including facilities, equipment, supplies, and other resources, from the participating institutions. (5 points)

(2) The extent to which the budget is adequate and costs are reasonable in relation to the objectives and design of the proposed project. (5 points)

(e) Quality of the project evaluation. (20 points)

In determining the quality of the evaluation, we consider the following factors:

(1) The extent to which the application presents a feasible, credible plan for project evaluation and includes: the type of design to be used; outcomes to be examined; and how participants will be assigned to the program or matched for comparison to non-program participants. (10 points)

(2) The extent to which the evaluation will provide reports or other documents at appropriate intervals to be used for continuous program improvement. (4 points)

(3) The extent to which the proposed evaluation will be conducted by an independent evaluator with the necessary background and technical expertise to carry out the evaluation. (6 points)

Note: With points awarded under “Special Considerations,” Priorities 1-3, and the selection criteria an application may receive a maximum of 120 points.

Intergovernmental Review

This program is subject to Executive Order 12372 and the regulations in 34 CFR part 79. One of the objectives of the Executive Order is to foster intergovernmental partnership and a strengthened federalism. The Executive Order relies on processes developed by State and local governments for coordination and review of proposed Federal financial assistance.

This document provides early notification of our specific plans and actions for this program.

Applicable Program Regulations: 34 CFR parts 74-79.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Catalog of Federal Domestic Assistance Number: 84.353.

Program Authority: 20 U.S.C. 2376.

Dated: May 7, 2003.
Carol D'Amico,
Assistant Secretary for Vocational and Adult Education.

[FR Doc. 03-11900 Filed 5-9-03; 8:45 am]

BILLING CODE 4000-01-P